COMMITTEE FOR PURCHASE FROM PEOPLE WHO ARE BLIND OR SEVERELY DISABLED

Procurement List; Proposed Addition and Deletions

AGENCY: Committee for Purchase From People Who Are Blind or Severely Disabled.

ACTION: Proposed addition to and deletions from Procurement List.

SUMMARY: The Committee is proposing to add to the Procurement List a service to be furnished by a nonprofit agency employing persons who are blind or have other severe disabilities, and to delete commodities previously furnished by such agencies.

COMMENTS MUST BE RECEIVED ON OR BEFORE: November 19, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION: This notice is published pursuant to 41 U.S.C. 47(a)(2) and 41 CFR 51-2.3. Its purpose is to provide interested persons an opportunity to submit comments on the possible impact of the proposed actions.

Addition

If the Committee approves the proposed addition, the entities of the Federal Government identified in this notice for each service will be required to procure the service listed below from nonprofit agencies employing persons who are blind or have other severe disabilities.

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List. Comments on this certification are invited. Commenters should identify the statement(s) underlying the certification on which they are providing additional information. The following service is proposed for addition to Procurement List for production by the nonprofit agencies listed:

Services

Janitorial/Custodial, U.S. Army Reserve Center, Newington, Connecticut

NPA: Greater Enfield Allied Rehabilitation Centers, Inc., Enfield, Connecticut

Government Agency: Fort Devens Reserve Forces Training Center

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46—48c) in connection with the commodities proposed for deletion from the Procurement List.

The following commodities are proposed for deletion from the Procurement List:

Commodities

Adhesive Tape, Surgical

6510-01-060-1639

6510-01-107-0223

6510-01-284-5110

6510-01-285-3896

6510-01-368-2659

6510-01-368-2660

6510-01-370-4099

6510-01-370-4100

6510-00-926-8882

6510-00-926-8883

Government Agency: Department of Veterans Affairs

Adhesive Tape, Surgical

6510-01-060-1639

6510-01-107-0223

6510-01-284-5110

6510-01-285-3896

6510-01-368-2659

6510-01-368-2660

6510-01-370-4099

6510-01-370-4100

6510-00-926-8882

6510-00-926-8883

Government Agency: Defense Supply Center Philadelphia

Penetrating Fluid

6850-00-973-9091

Sheryl D. Kennerly,
Director, Information Management.

[FR Doc. 01-26403 Filed 10-18-01; 8:45 am]

BILLING CODE 6353-01-P